NUCLEAR REGULATORY COMMISSION

[NRC-2009-0222]

Scoping Summary Report for the Update of the Generic Environmental Impact Statement for License Renewal of Nuclear Plants (NUREG-1437)

On June 3, 2003 (68 FR 33209), the U.S. Nuclear Regulatory Commission (NRC) issued, for public comment, a Notice of Intent to prepare an Update of the Generic Environmental Impact Statement for License Renewal of Nuclear Plants (GEIS), NUREG-1437. In accordance with 10 CFR 51.26, the NRC conducted scoping meetings and collected comments from the public for the Update to the License Renewal GEIS, NUREG-1437. Subsequently, the Commission reopened scoping with a notice published in the Federal Register on October 3, 2005 (70 FR 57628) to encompass any additional comments since the original issuance of the Notice of Intent.

The NRC conducted a public scoping meeting in each of the four NRC regions for the License Renewal GEIS update. The public scoping meetings were held in Atlanta, Georgia; Chicago, Illinois; Anaheim, California; and Boston, Massachusetts. The NRC issued public scoping meeting summaries on August 12 and 13, 2003. The official transcripts from the public scoping meetings, written comments, and meeting summaries are available electronically for public inspection in the NRC Public Document Room (PDR) or from the NRC's Agencywide Documents Access and Management System (ADAMS) under package Accession Numbers ML032170942, ML032260339, ML032260715, and ML032170934. The scoping period for this update to the GEIS closed on September 17, 2003, but was subsequently reopened from October 3, 2005, to December 30, 2005. The NRC staff and its contractor reviewed the public scoping meeting transcripts and all written materials received during the public scoping periods and identified individual comments. All comments and suggestions received orally during the scoping meetings, or in writing, were considered.

The NRC staff prepared a Scoping Summary Report for the Update of the GEIS. This report summarizes comments received during the two public scoping periods and during four public scoping meetings. The environmental review process for license renewal of nuclear facilities continues under the current regulatory framework throughout the course of this effort.

In accordance with Title 10 of the Code of Federal Regulations Section 51.29(b), a copy of the Scoping Summary Report has been made publicly available at the PDR, located at One White Flint North, 11555 Rockville Pike, Rockville, Maryland 20852, or from ADAMS. The ADAMS Public Electronic Reading Room is accessible at http://adamswebsearch.nrc.gov/dologin.htm. The Accession Number for the Scoping Summary Report is ML082960910. Persons who do not have access to ADAMS, or who encounter problems in accessing the documents located in ADAMS, should contact the NRC's PDR reference staff by telephone at 1-800-397-4209 or 301-415-4737, or by e-mail at pdr.resource@nrc.gov.

For further information contact: Jennifer Davis, telephone 1-800-368-5462, extension 3835, or by e-mail at LRGEISUpdate@nrc.gov, Office of the Nuclear Reactor Regulation, Nuclear Regulatory Commission, Washington, DC 20555-0001.

Dated at Rockville, Maryland, this 26th day of May 2009.
For the Nuclear Regulatory Commission.
David Wrona,
Chief, Projects Branch 2, Division of License Renewal, Office of Nuclear Reactor Regulation.

[FR Doc. E9-12894 Filed 6-2-09; 8:45 am]

BILLING CODE 7590-01-P